ENVIRONMENTAL PROTECTION AGENCY

[FRL-7634-5]

Draft National Coastal Condition Report II

AGENCY: Environmental Protection Agency (EPA).

ACTION: Notice of availability and request for comments.

SUMMARY: Notice of availability is hereby given for a 90-day public comment period on the draft National Coastal Condition Report II describing the condition of the Nation's coastal waters. Coastal waters are valuable from both an environmental and economic perspective. These waters are vulnerable to pollution from diverse sources. EPA expects that this report on the condition of coastal waters will support more informed decisions concerning protection of this resource and will increase public awareness of the extent and seriousness of pollution in these waters. EPA seeks public input concerning the information in the report, the availability of additional data, and the appropriateness of conclusions drawn from the information presented.

DATES: Written comments must be received by June 7, 2004.

ADDRESSES: Address comments concerning this notice to Barry Burgan, U.S. Environmental Protection Agency (4504 T), Office of Water, 1200 Pennsylvania Avenue, NW., Washington, DC 20460; telephone (202) 566-1242; fax (202) 566-1336 or Kevin Summers, U.S. Environmental Protection Agency, Office of Research and Development, 1 Sabine Island Drive, Gulf Breeze, Florida 32561; telephone (850) 934-9237; fax (850) 934-9201.

FOR FURTHER INFORMATION CONTACT: Barry Burgan, U.S. Environmental Protection Agency (4504 T), Office of Water, 1200 Pennsylvania Avenue, NW., Washington, DC 20460 or Kevin Summers, U.S. Environmental Protection Agency, Office of Research and Development, 1 Sabine Island Drive, Gulf Breeze, Florida 32561. See SUPPLEMENTARY INFORMATION section for electronic access and filing address.

SUPPLEMENTARY INFORMATION:

I. Background

In 2001, the first National Coastal Condition Report was released, characterizing about 70% of the estuarine resources of the United States. Using available data from 1990-1996, EPA, the National Oceanic and Atmospheric Administration (NOAA), U.S. Geological Survey (USGS), U.S. Fish and Wildlife Service (USFWS), and U.S. Department of Agriculture determined that the Nation's estuarine resources were in fair condition and presented this information in the first Report. This second edition of the National Coastal Condition Report serves as a continuing foundation for the Nation's efforts to protect, manage, and restore coastal ecosystems. Four Federal agencies (EPA, NOAA, USGS and the USFWS) and several State and regional/local organizations have come together to report on the current condition of the Nation's coasts.

The National Coastal Condition Report II describes the condition of coastal waters based on several available data sets from different agencies and areas of the country and summarizes them to present a continuing picture of the condition of coastal waters. Although the data sets presented do not cover all coastal areas (e.g., no data for Alaska and Hawaii), they do provide a multi-regional assessment of coastal condition in the conterminous United States and Puerto Rico. For example, EPA's National Coastal assessment is conducting estuarine monitoring in all 23 coastal States and Puerto Rico, accounting for 99.8% of estuarine acreage in the continental U.S. and Puerto Rico. Data from several regional and national programs conducted by NOAA, USGS and the USFWS are included in this assessment of coastal condition. This report serves as a useful tool for analyzing the progress of coastal programs implemented since the first Report and as a benchmark for the future. This report will be followed in subsequent years by reports focusing on continuing assessments of ecological condition, examinations of the trends in coastal condition, and assessments of more specialized coastal issues.

II. Electronic Access and Filing

You may view and download the draft Report on EPA's Internet site at the Office of Water homepage at http://www.epa.gov/owow/oceans/nccr2/index.html under Recent Additions. Comments may be sent to Barry Burgan or Kevin Summers via U.S. Postal Service, electronic mail (e-mail) or fax. Please send comments to Barry Burgan at U.S. Environmental Protection Agency (4504 T), Office of Water, 1200 Pennsylvania Avenue, NW., Washington, DC 20460 (mail), burgan.barry@epa.gov (e-mail), or (202) 566-1336 (fax); or Kevin Summers, U.S. Environmental Protection Agency, Office of Research and Development, 1 Sabine Island Drive, Gulf Breeze, FL 32561 (mail), summers.kevin@epa.gov (e-mail), or (850) 934-9201 (fax). Submit electronic comments as an ASCII file avoiding the use of special characters and any form of encryption.

Dated: March 4, 2004.
Benjamin H. Grumbles,
Acting Assistant Administrator for Water.

[FR Doc. 04-5355 Filed 3-8-04; 8:45 am]

BILLING CODE 6560-50-P